DEPARTMENT OF HOMELAND SECURITY

Coast Guard

33 CFR Part 117

[Docket No. USCG-2017-0008]

Drawbridge Operation Regulation; Tombigbee River, Naheola, AL

AGENCY: Coast Guard, DHS.

ACTION: Notice of deviation from drawbridge regulation.

SUMMARY: The Coast Guard has issued a temporary deviation from the operating schedule that governs the Meridian & Bigbee Railroad (MNBR) vertical lift bridge across the Tombigbee River, mile 128.6 (Black Warrior Tombigbee Waterway mile 173.6) at Naheola, between Choctaw and Marengo Counties, Alabama. The deviation is necessary to conduct maintenance essential for the continued safe operation of the bridge. This deviation allows the bridge to remain in the closed-to-navigation position for certain daytime hours for two (2) three day periods between Friday, January 20, 2017, and Sunday, January 29, 2017.

DATES: This temporary deviation is effective from 7 a.m. on Friday, January 20, 2017, through 6 p.m. on Sunday, January 29, 2017.

ADDRESSES: The docket for this deviation, [USCG-2017-0008] is available at http://www.regulations.gov. Type the docket number in the “SEARCH” box and click “SEARCH”. Click on Open Docket Folder on the line associated with this deviation.

FOR FURTHER INFORMATION CONTACT: If you have questions on this temporary deviation, call or email Giselle MacDonald, Bridge Administration Branch, Coast Guard, telephone (504) 671-2128, email Giselle.T.MacDonald@uscg.mil.

SUPPLEMENTARY INFORMATION: The Meridian & Bigbee Railroad (MNBR) requested a temporary deviation from the operating schedule of the Meridian & Bigbee (MNBR) vertical lift bridge across the Tombigbee River, mile 128.6 (Black Warrior Tombigbee Waterway mile 173.6) at Naheola, between Choctaw and Marengo Counties, Alabama, in order to replace the mitre rails, which are essential for the continued safe operation of the bridge. The current bridge operating schedule is found in 33 CFR 117.118, and the bridge has a vertical clearance of 12.2 feet above ordinary high water (OHW), elevation of 64.5 feet, in the closed-to-navigation position and 55 feet above OHW in the open-to-navigation position.

This deviation will allow the bridge to remain in the closed-to-navigation position from 7 a.m. until 6 p.m., each day, January 20, 2017, through January 22, 2017, and from 7 a.m. until 6 p.m., each day, January 27, 2017, through January 29, 2017, with a scheduled two-hour opening, from 11 a.m. until 1 p.m., each day to facilitate passage of vessel traffic. The bridge will be open-to-navigation to facilitate vessel traffic at night.

Vessels able to pass through the bridge in the closed position may do so at any time. Navigation on the waterway consists of tugs with tows, fishing vessels, and recreational craft.

The Coast Guard will inform the waterways users through Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: January 17, 2017.
Eric Washburn,
Bridge Administrator, Eighth Coast Guard District.

[FR Doc. 2017-01420 Filed 1-24-17; 8:45 am]

BILLING CODE 9110-04-P